DEPARTMENT OF HEALTH AND HUMAN SERVICES

National Institutes of Health

Center for Scientific Review; Amended Notice of Meeting

Notice is hereby given of a change in the meeting of the Nuclear and Cytoplasmic Structure/Function and Dynamics Study Section, October 15, 2013, 8:00 a.m. to October 16, 2013, 6:00 p.m., Embassy Suites at the Chevy Chase Pavilion, 4300 Military Road NW., Washington, DC, 20015 which was published in the Federal Register on September 16, 2013, 78 FR Pgs. 56904-56905.

The meeting will be held at The Palomar Hotel, 2121 P. Street, Washington, DC 20037. The meeting will start on November 11, 2013 at 8:00 a.m. and will end on November 11, 2013 at 7:00 p.m. The meeting is closed to the public.

Dated: October 24, 2013.
Carolyn A. Baum,
Program Analyst, Office of Federal Advisory Committee Policy.

[FR Doc. 2013-25554 Filed 10-28-13; 8:45 am]

BILLING CODE 4140-01-P